DEPARTMENT OF COMMERCE

International Trade Administration

[A-588-845]

Stainless Steel Sheet and Strip in Coils From Japan: Notice of Initiation and Preliminary Results of Changed Circumstance Antidumping Duty Review, and Intent To Revoke Order in Part

AGENCY: Import Administration, International Trade Administration, Department of Commerce.

ACTION: Notice of initiation and preliminary results of changed circumstance antidumping duty review, and intent to revoke order in part.

EFFECTIVE DATE: October 27, 2000.

SUMMARY: On August 17, 2000, the Department of Commerce (“Department”) received a request on behalf of NIPPON Metalworking U.S.A, (“NIPPON”) for a changed circumstance antidumping duty (“AD”) review and to revoke in part the AD order with respect to certain nickel-clad stainless steel sheet and strip in coils from Japan. The Department received a letter on September 6, 2000, from Allegheny Ludlum, AK Steel (formerly Armco, Inc.), J&L Specialty Steel, Inc., North American Stainless, Butler-Armco Independent Union, Zanesville-Armco Independent Union, and the United Steelworkers of America, AFL-CIO/CLC, (“petitioners”) indicating that they do not oppose NIPPON's request for revocation in part of the order pursuant to a changed circumstance review with respect to the subject merchandise defined in the Scope of the Review section below. Based on this expression of no interest we are initiating a changed circumstance review and preliminarily determine that the AD order should be revoked in part with respect to that product.

Interested parties are invited to comment on these preliminary results.

FOR FURTHER INFORMATION CONTACT: Alex Villanueva or James C. Doyle, Import Administration, International Trade Administration, U.S. Department of Commerce, 14th Street and Constitution Avenue, NW., Washington DC 20230; telephone (202) 482-6412 and (202) 482-0159, respectively.

SUPPLEMENTARY INFORMATION:

Applicable Statute and Regulations

Unless otherwise indicated, all citations to the statute are references to the provisions effective January 1, 1995, the effective date of the amendments made to the Tariff Act of 1930 (“the Act”) by the Uruguay Round Agreements Act (“URAA”). In addition, unless otherwise indicated, all citations to the Department's regulations are to the regulations at 19 CFR part 351 (April 1999).

Background

On July 27, 1999, the Department published the Notice of Amended Final Determination of Sales at Less Than Fair Value and Antidumping Duty Order on Stainless Steel Sheet and Strip in Coils from Japan (64 FR 40565).

On August 17, 2000, NIPPON requested revocation in part of the antidumping order pursuant to section 751(b)(1) of the Act and section 351.216(b) of the Department's regulations with respect to specific stainless steel sheet and strip in coils from Japan, as described below. NIPPON further requested that revocation be effective for all unliquidated entries on or after the date of publication of the Department's January 4, 1999 preliminary less than fair value (“LTFV”) determination (64 FR 108). On September 6, 2000, petitioners indicated that they do not oppose this request for revocation in part, as noted above. Petitioners have no objection to the retroactive application of this exclusion from January 4, 1999, the date of the preliminary determination, forward.

Scope of the Review

The product covered by this exclusion request is nickel-clad stainless steel sheet and strip in coils from Japan. This nickel clad stainless steel sheet must satisfy each of the following specifications. The sheet must: (1) Have a maximum coil weight of 1000 pounds; (2) with a coil interior diameter of 458 mm and an outside diameter of 508; (3) with a thickness of .33 mm and a width of 699.4 mm; (4) fabricated in three layers with a middle layer of grade 316L or UNS 531603 sheet and strip sandwiched between the two layers of nickle cladding, using a roll bonding process to apply the nickel coating to each side of the stainless steel, each nickel coating being not less than 99 percent nickel and a minimum .038 mm in thickness. The resultant nickel-clad stainless steel sheet and strip also must meet the following additional chemical composition requirement (by weight): The first layer weight is 14%, specification Ni201 or N02201, Carbon 0.009, Sulfur 0.001, Nickel 99.97, Molybdenum 0.001, Iron 0.01, Copper 0.001 for a combined total of 99.992. The second layer weight is 72%, specification 316L or UNS 513603, Carbon .02, Silicon 0.87, Manganese 1.07, Phosphorus 0.033, Sulfur 0.001, Nickel 12.08, Chromium 17.81, Molybdenum 2.26, Iron 65.856 for a combined total of 100. The third layer is 14%, specification Ni201 or N02201, Carbon 0.01, Sulfur 0.001, Nickel 99.97, Molybdenum 0.001, Iron 0.01, Copper 0.001 for a combined total of 99.993. The weight average weight is 100%. The following is the weighted average: Carbon 0.01706, silicon 0.6264, Manganese 0.7704, Phosphorus 0.02376, Sulfur 0.001, Nickel 36.6892, Chromium 12.8232, Molybdenum 1.62748, Iron 47.41912, and Copper is 0.00028. The above-described material sold as grade 316L and manufactured in accordance with UNS specification 531603. This material is classified at subheading 7219.90.00.20 of the Harmonized Tariff Schedule of the United States.

Initiation and Preliminary Results of Changed Circumstance AD Review, and Intent To Revoke Order in Part

At the request of NIPPON, and in accordance with sections 751(b)(1) and 751(d)(1) of the Act and section 351.216 of the Department's regulations, the Department is initiating a changed circumstance review of stainless steel sheet and strip in coils from Japan to determine whether partial revocation of the antidumping order is warranted with respect to the stainless steel sheet and strip subject to this request. Section 782(h)(2) of the Act and section 351.222(g)(1)(i) of the Department's regulations provide that the Department may revoke an order (in whole or in part) if it determines that producers accounting for substantially all of the production of the domestic like product have no further interest in the order, in whole or in part. In addition, in the event the Department determines that expedited action is warranted, section 351.221(c)(3)(ii) of the regulations permits the Department to combine the notices of initiation and preliminary results.

In accordance with section 751(b) of the Act, and sections 351.222(g)(l)(i) and 351.221(c)(3) of the Department's regulations, we are initiating this changed circumstance review and have determined that expedited action is warranted. Our decision to expedite this review stems from the domestic industry's lack of interest in applying the antidumping order to the specific stainless steel sheet and strip covered by this request. Additionally, in accordance with section 351.216(c) we find that the petitioners' affirmative statement of no interest constitutes good cause for the conduct of this review.

Based on the expression of no interest by petitioners and absent any objection by any other domestic interested parties, we have preliminarily determined that substantially all of the domestic producers of the like product have no interest in continued application of the AD order to the certain nickel clad stainless steel sheet and strip subject to this request. Therefore, we are notifying the public of our intent to revoke, in part, the AD order as it relates to imports of the merchandise described above from Japan.

Public Comment

Interested parties may submit case briefs and/or written comments no later than 14 days after the date of publication of these preliminary results. Rebuttal briefs and rebuttals to written comments, limited to issues raised in such briefs or comments, may be filed no later than 21 days after the date of publication. The Department will issue the final results of this changed circumstance review, which will include the results of its analysis raised in any such written comments, no later than 270 days after the date on which this review was initiated, or within 45 days if all parties agree to our preliminary determination. See section 351.216(e) of the Department's regulations.

If final revocation occurs, we will instruct the U.S. Customs Service to end the suspension of liquidation for the merchandise covered by the revocation effective on or after January 4, 1999, the date of publication of the Department's preliminary LTFV determination (64 FR 108) and to release any cash deposit or bond. See section 351.222(g)(4) of the Department's regulations. The current requirement for a cash deposit of estimated antidumping duties on all subject merchandise will continue unless and until it is modified pursuant to the final results of this changed circumstance review.

This initiation of review and notice are in accordance with sections 751(b) of the Act and 19 CFR 351.216, 351.221, and 351.222.

Dated: October 19, 2000.
Troy H. Cribb,
Acting Assistant Secretary for Import Administration.

[FR Doc. 00-27685 Filed 10-26-00; 8:45 am]

BILLING CODE 3510-DS-P